DEPARTMENT OF INTERIOR

Bureau of Land Management

Notice of Pryor Mountain Area Off-Highway Vehicle (OHV) Designation

ACTION: Notice; correction.

SUMMARY: The Bureau of Land Management published a document in the Federal Register of April 20, 2000, concerning designations for Off Highway Vehicle use on public lands. The document contained an incorrect road name and number.

FOR FURTHER INFORMATION CONTACT: David Jaynes, 406-896-5013.

Correction

In the Federal Register of April 20, 2000 (Volume 65, Number 77) on page 21209, correct the sentence in “Summary” from “Bear Canyon Ridge Road [1031] from East Horsehaven [1030] T.9S., R.26E., Section 2, meandering north to the Custer National Forest in Section 2” to read “Bear Canyon Ridge Road [1031] from West Horsehaven [1021] T.9S., R.26E., meandering north to the Custer National Forest in Section 2”.

Dated: May 1, 2000.
Sandra S. Brooks,
Field Manager.

[FR Doc. 00-11235 Filed 5-4-00; 8:45 am]

BILLING CODE 4310-$$-P